DEPARTMENT OF AGRICULTURE

Forest Service

Norbeck Wildlife Project; Hell Canyon Ranger District; Black Hills National Forest Custer, SD

AGENCY: Forest Service, USDA.

ACTION: Revised notice of intent to prepare an Environmental Impact Statement (EIS).

SUMMARY: The Hell Canyon Ranger District of the Black Hills National Forest (BHNF) is preparing an Environmental Impact Statement (EIS) for a proposal to implement multiple resource management actions within the Norbeck Wildlife Preserve (Norbeck) project area as directed by the Norbeck Organic Act and the Black Hills National Forest Land and Resource Management Plan. Since the original NOl was published, the proposed action has been modified to no longer include prescribed burning within the Black Elk Wilderness, and two additional action alternatives have been developed. The No Action alternative, which is also being considered, would not authorize habitat improvements of any type within the project area. This revised Notice of Intent is being issued to provide updated information on this project, including the proposal, timing, and contact information.

DATES: The original NOI for the Norbeck project was published July 31, 2007 (72 FR 41703). The dates of expected availability of environmental documents have changed since that Notice. The draft environmental impact statement is now expected to be available in September 2009 and the final environmental impact statement is expected to be completed by December 2009.

FOR FURTHER INFORMATION CONTACT: Kelly Honors, Project Leader, Black Hills National Forest, Hell Canyon Ranger District, 330 Mount Rushmore Road, Custer, South Dakota 57730 or by phone at (605) 673-4853.

SUPPLEMENTARY INFORMATION:

Purpose and Need for Action

The purpose for action in the Norbeck project area has not changed, and is to benefit “game animals and birds” by improving habitat conditions within the Norbeck Wildlife Preserve, and to reduce the risks and consequences of a wildfire escaping from the wilderness. The EIS will describe current conditions and analyze environmental consequences of proposed actions. This information will assist the decision-maker in selecting management and monitoring strategies to meet desired conditions, such as the goals and objectives outlined for Management Area 5.4A, Norbeck Wildlife Preserve, Management Area 4.2B, Peter Norbeck Scenci Byway and Management Area 1.1A, Black Elk Wilderness.

The Forest Service seeks to provide high quality habitat for “game animals and birds” in accordance with the Norbeck Organic Act of June 5, 1920 and the Black Hills National Forest (BHNF) Land and Resource Management Plan (LRMP). A Focus Species List was prepared through coordination between USDA Forest Service personnel and South Dakota Game, Fish and Parks personnel (Griebel, Bums, Deisch, 2007), and is now an amendment to the BHNF LRMP. The following species are included on this list, and were used to guide habitat management objectives for the Norbeck project: mountain goat, bighorn sheep, elk, white-tailed deer, Merriam's turkey, mountain bluebird, golden-crowned kinglet, brown creeper, ruffed grouse, song sparrow, northern goshawk and black-backed woodpecker.

Proposed Action

The Norbeck project proposed action includes the following management actions:

Managing vegetation on approximately 6,000 acres mechanically and by prescribed burning to improve habitat for game animals and birds within the Norbeck Wildlife Preserve.

Information on Issues and Additional Alternatives

Issues associated with the Norbeck project, as identified through scoping, include: wilderness values, wildlife and wildlife habitat, large trees, mountain pine beetle effects on wildlife habitat and potential for escaped fire. The two additional action alternatives include vegetation treatments to improve wildlife habitat, and also include prescribed burning within the Black Elk Wilderness.

Responsible Official

Mr. Lynn D. Kolund, Hell Canyon District Ranger, Black Hills National Forest, 330 Mount Rushmore Road, Custer, SD 57730.

Nature of Decision To Be Made

After reviewing the environmental analysis and considering public comment, the District Ranger will reach a decision that is in accord with the purpose and need for the project. The decision will include, but not be limited to:

(I) Whether or not to undertake vegetation treatments to improve habitat conditions within Norbeck Wildlife Preserve for game animals and birds, and

(2) What actions are appropriate, and under what conditions would actions take place.

Early Notice about Importance of Public Participation in Subsequent Environmental Review: A draft environmental impact statement is expected to be available for public review in September 2009. The comment period on the draft environmental impact statement will be 45 days from the date the Environmental Protection Agency publishes the notice of availability in the Federal Register. The Forest Service believes that at this early stage it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that comments and objections are made available to the Forest Service at a time when they can meaningfully consider them and respond to them in the final environmental impact statement. To assist the Forest Service in identifying and considering issues and concerns, comments on the draft environmental impact statement should be as specific as possible. Please refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: July 6, 2009.
David Thom,
Acting Deputy Forest Supervisor Black Hills National Forest.

[FR Doc. E9-16473 Filed 7-13-09; 8:45 am]

BILLING CODE 3410-11-M